FEDERAL MARITIME COMMISSION

Notice of Hearing Schedule; Passenger Vessel Financial Responsibility

The Commission has established the following allotment of time and order of presentation for the hearing concerning the Commission's Passenger Vessel Financial Responsibility Program. The hearing will convene at 10 a.m., March 3, 2010, in the Commission's Main Hearing Room, Room 100, 800 North Capitol Street, NW., Washington, DC 20573. In the event that additional time is needed to hear all participants and allow presenters to field questions from the Commission, an afternoon session will be convened.

The due date for submitting the original and 15 copies of participant's prepared hearing statement is Friday, February 26, 2010. All written submissions, except for confidential business information, will be available for public inspection.

Company | Participant(s) | Time allotment (in minutes)
American Cruise Lines Inc. | Charles A. Robertson, Chairman & Chief Executive Officer | 15
Carnival Corporation & PLC | David Bernstein, Senior Vice President & Chief Financial Officer | 15
Crystal Cruises, Inc. | Ann G. Miller, Law Offices of Ann G. Miller | 15
Cruise Lines International Association | Terry L. Dale, President and CEO, J. Michael Cavanaugh, Holland & Knight LLP | 15
Passenger Vessel Association | Ed Welch, Legislative Director | 15

Karen V. Gregory,
Secretary.

[FR Doc. 2010-4202 Filed 3-1-10; 8:45 am]

BILLING CODE 6730-01-P